NATIONAL SCIENCE FOUNDATION

Federal-Commercial Spectrum Data; Workshop

AGENCY: The National Coordination Office (NCO) for Networking and Information Technology Research and Development (NITRD).

ACTION: Notice—Federal-Commercial Spectrum Data: Understanding Information Exchange Needs, Issues, and Approaches.

FOR FURTHER INFORMATION CONTACT: Wendy Wigen at 703-292-4873 or wigen@nitrd.gov. Individuals who use a telecommunications device for the deaf (TDD) may call the Federal Information Relay Service (FIRS) at 1-800-877-8339 between 8 a.m. and 8 p.m., Eastern time, Monday through Friday.

DATES: October 21, 2014.

SUMMARY: Representatives from Federal research agencies, private industry, and academia will identify R&D in the area of spectrum data requirements that will promote progress toward more efficient spectrum utilization and sharing.

SUPPLEMENTARY INFORMATION:

Overview

The Wireless Spectrum Research and Development Senior Steering Group (WSRD SSG) will hold its next workshop, Federal-Commercial Spectrum Data: Understanding Information Exchange Needs, Issues, and Approaches, on October 21, from 8:30 a.m.-5:30 p.m., at the National Science Foundation, 4201 Wilson Blvd. Room I-1235, Arlington, VA. Dynamic information sharing and management creates innovative opportunities in many areas including network and business intelligence, devices, applications, public safety operations and security; but developing the next generation of spectrum management tools is complex. It requires consensus among stakeholders on several important issues such as: The purpose of collecting and sharing information, the type and minimal amount of data needed, how to get it into the SAS, the necessary level of security, and enforcement.

The NTIA and the FCC are increasing their efforts to identify and make available new spectral bands with the understanding that this will necessitate the use of spectrum sharing techniques. To ensure success, it is critical to first determine the spectrum data requirements of the stakeholders in order to create new policy and develop new techniques and procedures for dynamic spectrum usage. The event agenda and information about the webcast will be available the week of the event at: http://www.nitrd.gov/nitrdgroups/index.php?title=Wireless_Spectrum_Research_and_Development_(WSRD)#title

Background

The Presidential Memorandum, Presidential Memorandum on Unleashing the Wireless Broadband Revolution (http://www.whitehouse.gov/the-press-office/presidential-memorandum-unleashing-wireless-broadband-revolution), released on June 14, 2013, directed the implementation of “policies for sharing with authorized non-federal parties of classified, sensitive, or proprietary data regarding assignments, utilization of spectrum, system configurations, business plans, and other information”. The Presidential Council of Advisors on Science and Technology (PCAST) released a report (http://www.whitehouse.gov/sites/default/files/microsites/ostp/pcast_spectrum_report_final_july_20_2012.pdf) in July 2012 that advocated setting up Spectrum Access System (SAS) databases, with a uniform interface analogous to the Internet's Domain Naming System (DNS), to provide federal information and access restrictions.

Over the past three years, the WSRD has held a series of workshops that addressed the challenge defined in these documents. Information gathered from this workshop will be instrumental in helping the WSRD SSG develop recommendations that will be released in a workshop report prepared for the Office of Science and Technology Policy.

Submitted by the National Science Foundation for the National Coordination Office (NCO) for Networking and Information Technology Research and Development (NITRD) on October 14, 2014.

Suzanne H. Plimpton,
Reports Clearance Officer, National Science Foundation.

[FR Doc. 2014-24741 Filed 10-16-14; 8:45 am]

BILLING CODE 7555-01-P